DEPARTMENT OF TRANSPORTATION

Federal Aviation Administration

14 CFR Part 39

[Docket No. FAA-2004-19078; Directorate Identifier 98-CE-17-AD; Amendment 39-13946; AD 98-20-38 R1]

RIN 2120-AA64

Airworthiness Directives; Raytheon Aircraft Company (Raytheon) Beech 200 Series Airplanes

AGENCY: Federal Aviation Administration (FAA), DOT.

ACTION: Final rule.

SUMMARY: The FAA adopts a new airworthiness directive (AD) to revise AD 98-20-38, which applies to all Beech 200 series airplanes. AD 98-20-38 requires you to revise the FAA-approved Airplane Flight Manual (AFM) to specify procedures that would prohibit flight in severe icing conditions (as determined by certain visual cues), limit or prohibit the use of various flight control devices while in severe icing conditions, and provide the flight crew with recognition cues for and procedures for exiting from severe icing conditions. Part of the applicability of AD 98-20-38 includes the Raytheon Models B200 and B200C airplanes. AD 96-09-13 already requires AFM revisions on this subject for these airplane models. Consequently, FAA is revising AD 98-20-38 to remove the Models B200 and B200C from the applicability and add clarification that AD 96-09-13 affects these airplanes. We are issuing this AD to minimize the potential hazards associated with operating these airplanes in severe icing conditions by providing more clearly defined procedures and limitations.

DATES: This AD becomes effective on February 18, 2005.

ADDRESSES: To view the AD docket, go to the Docket Management Facility; U.S. Department of Transportation, 400 Seventh Street, SW., Nassif Building, Room PL-401, Washington, DC 20590-0001 or on the Internet at http://dms.dot.gov. The docket number is FAA-2004-19078; Directorate Identifier 98-CE-17-AD.

FOR FURTHER INFORMATION CONTACT: Mr. Paul Pellicano, Aerospace Engineer (Icing Specialist), Atlanta Aircraft Certification Office, FAA, One Crown Center, 1895 Phoenix Boulevard, Suite 450, Atlanta, Georgia 30349; telephone: (770) 703-6064; facsimile: (770) 703-6097.

SUPPLEMENTARY INFORMATION:

Discussion

Has FAA taken any action to this point? A review of the requirements for certification of Raytheon Beech 200 series airplanes in icing conditions caused FAA to issue AD 98-20-38, Amendment 39-10806 (63 FR 51805, September 29, 1998). AD 98-20-38 requires you to revise the FAA-approved Airplane Flight Manual (AFM) to specify procedures that would prohibit flight in severe icing conditions (as determined by certain visual cues), limit or prohibit the use of various flight control devices while in severe icing conditions, and provide the flight crew with recognition cues for and procedures for exiting from severe icing conditions.

What has happened since AD 98-20-38 to initiate this proposed action? Part of the applicability of AD 98-20-38 includes the Raytheon Models B200 and B200C airplanes. AD 96-09-13 already requires AFM revisions on this subject for these airplane models. The language is similar but is not the same and AD 96-09-13 reflects the preferred information. Consequently, FAA is revising AD 98-20-38 to remove the Models B200 and B200C from the applicability and add clarification that AD 96-09-13 affects these airplanes.

Has FAA taken any action to this point? We issued a proposal to amend part 39 of the Federal Aviation Regulations (14 CFR part 39) to include an AD that would apply to Raytheon Beech 200 series airplanes. This proposal was published in the Federal Register as a notice of proposed rulemaking (NPRM) on October 22, 2004 (69 FR 62005). The NPRM proposed to revise AD 98-20-38 to remove the Beech Models B200 and B200C from the applicability. The Beech Models B200 and B200C are still affected by the actions of AD 96-09-13.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 1,600 airplanes in the U.S. registry.

What is the cost impact of this AD on owners/operators of the affected airplanes? The cost estimate of this AD is the same per airplane as AD 98-20-38. However, the AD would affect fewer airplanes than AD 98-20-38.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19078; Directorate Identifier 98-CE-17-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 98-20-38, Amendment 39-10806 (63 FR 51805, September 29, 1998), and by adding a new AD to read as follows:

98-20-38 R1 Raytheon Aircraft Company: Amendment 39-13946; Docket No. FAA-2004-19078; Directorate Identifier 98-CE-17-AD.

When Does This AD Become Effective?

(a) This AD becomes effective on February 18, 2005.

What Other ADs Are Affected by This Action?

(b) This AD revises AD 98-20-38, Amendment 39-10806.

What Airplanes Are Affected by This AD?

(c) This AD affects the following airplane models, all serial numbers, that are certificated in any category:

(1) Beech 200 (A100-1 (U-21J)).

(2) Beech 200C.

(3) Beech 200CT.

(4) Beech 200T.

(5) Beech A200 (C-12A) or (C-12C).

(6) Beech A200C (UC-12B).

(7) Beech A200CT (C-12D), (FWC-12D), (RC-12D), (C-12F), (RC-12G), (RC-12H), (RC-12K), or (RC-12P).

(8) B200CT.

(9) B200T.

Note 1: The actions of AD 96-09-13 are required for the Beech Models B200 and B200C airplanes.

What Is the Unsafe Condition Presented in This AD?

(d) The actions specified in this AD are intended to minimize the potential hazards associated with operating these airplanes in severe icing condition by providing more clearly defined procedures and limitations.

What Must I Do To Address This Problem?

(e) Within 30 days after November 4, 1998 (the effective date of AD 98-20-38), do the requirements of paragraphs (e)(1) and (e)(2) of this AD, unless already accomplished.

Note 2: Operators should initiate action to notify and ensure that flight crewmembers are apprised of this change.

(1) Revise the FAA-approved Airplane Flight Manual (AFM) by incorporating the following into the Limitations Section of the AFM. This may be accomplished by inserting a copy of this AD in the AFM.

“Warning

Severe icing may result from environmental conditions outside of those for which the airplane is certificated. Flight in freezing rain, freezing drizzle, or mixed icing conditions (supercooled liquid water and ice crystals) may result in ice build-up on protected surfaces exceeding the capability of the ice protection system, or may result in ice forming aft of the protected surfaces. This ice may not be shed using the ice protection systems, and may seriously degrade the performance and controllability of the airplane.

• During flight, severe icing conditions that exceed those for which the airplane is certificated shall be determined by the following visual cues. If one or more of these visual cues exists, immediately request priority handling from Air Traffic Control to facilitate a route or an altitude change to exit the icing conditions.

—Unusually extensive ice accumulation on the airframe and windshield in areas not normally observed to collect ice.

—Accumulation of ice on the upper surface of the wing, aft of the protected area.

—Accumulation of ice on the engine nacelles and propeller spinners farther aft than normally observed.

• Since the autopilot, when installed and operating, may mask tactile cues that indicate adverse changes in handling characteristics, use of the autopilot is prohibited when any of the visual cues specified above exist, or when unusual lateral trim requirements or autopilot trim warnings are encountered while the airplane is in icing conditions.

• All wing icing inspection lights must be operative prior to flight into known or forecast icing conditions at night. [Note: This supersedes any relief provided by the Master Minimum Equipment List (MMEL).]”

(2) Revise the FAA-approved AFM by incorporating the following into the Normal Procedures Section of the AFM. This may be accomplished by inserting a copy of this AD in the AFM.

“The Following Weather Conditions May Be Conducive to Severe In-Flight Icing

• Visible rain at temperatures below 0 degrees Celsius ambient air temperature.

• Droplets that splash or splatter on impact at temperatures below 0 degrees Celsius ambient air temperature.

Procedures for Exiting the Severe Icing Environment

These procedures are applicable to all flight phases from takeoff to landing. Monitor the ambient air temperature. While severe icing may form at temperatures as cold as −18 degrees Celsius, increased vigilance is warranted at temperatures around freezing with visible moisture present. If the visual cues specified in the Limitations Section of the AFM for identifying severe icing conditions are observed, accomplish the following:

• Immediately request priority handling from Air Traffic Control to facilitate a route or an altitude change to exit the severe icing conditions in order to avoid extended exposure to flight conditions more severe than those for which the airplane has been certificated.

• Avoid abrupt and excessive maneuvering that may exacerbate control difficulties.

• Do not engage the autopilot.

• If the autopilot is engaged, hold the control wheel firmly and disengage the autopilot.

• If an unusual roll response or uncommanded roll control movement is observed, reduce the angle-of-attack.

• Do not extend flaps when holding in icing conditions. Operation with flaps extended can result in a reduced wing angle-of-attack, with the possibility of ice forming on the upper surface further aft on the wing than normal, possibly aft of the protected area.

• If the flaps are extended, do not retract them until the airframe is clear of ice.

• Report these weather conditions to Air Traffic Control.”

(f) As an alternative method of compliance to the actions required by paragraph (e)(2) of this AD, revise the Abnormal Procedures Section or Emergency Procedures Section of the AFM instead of the Normal Procedures section of the AFM. Insert the information presented in paragraph (e)(2) of this AD into the applicable AFM section.

(g) The owner/operator holding at least a private pilot certificate as authorized by section 43.7 of the Federal Aviation Regulations (14 CFR 43.7) may incorporate the AFM revisions required by this AD. Enter this information into the aircraft records showing compliance with this AD following section 43.9 of the Federal Aviation Regulations (14 CFR 43.9).

May I Request an Alternative Method of Compliance?

(h) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Mr. Paul Pellicano, Aerospace Engineer (Icing Specialist), Atlanta Aircraft Certification Office, FAA, One Crown Center, 1895 Phoenix Boulevard, Suite 450, Atlanta, Georgia 30349; telephone: (770) 703-6064; facsimile: (770) 703-6097.

May I Get Copies of the Documents Referenced in This AD?

(i) You may view the AD docket at the Docket Management Facility; U.S. Department of Transportation, 400 Seventh Street, SW., Nassif Building, Room PL-401, Washington, DC, or on the Internet at http://dms.dot.gov.

Issued in Kansas City, Missouri, on January 11, 2005.
Michael K. Dahl,
Acting Manager, Small Airplane Directorate, Aircraft Certification Service.

[FR Doc. 05-895 Filed 1-18-05; 8:45 am]

BILLING CODE 4910-13-P